DEPARTMENT OF VETERANS AFFAIRS

38 CFR Parts 17 and 61

RIN 2900-AL30

VA Homeless Providers Grant and Per Diem Program

AGENCY: Department of Veterans Affairs.

ACTION: Final rule.

SUMMARY: This document affirms without any changes except for adding OMB information collection citations in part 61, to the provisions of an interim final rule that revised the regulations concerning the VA Homeless Providers Grant and Per Diem Program.

In large part the interim final rule implemented the provisions of the Homeless Veterans Comprehensive Assistance Act of 2001.

The interim final rule also established provisions in the form of funding priorities to meet a statutory mandate. In addition, to help ensure that program objectives are met by those receiving assistance, the interim final rule added provisions to state that to receive assistance, an entity must not be in default by failing to meet requirements under any previously awarded grant.

Further, the interim final rule made changes to provide that each resident of supportive housing may be required to pay rent in an amount determined by the recipient, except that such rent may not exceed 30 percent of the resident's monthly income not including amounts equal to medical expenses, child care expenses, or court-ordered payments. This was intended to provide a system that is administratively feasible, that allows for significant help for covering operating expenses, and that would allow veterans to retain sufficient funds to help prepare for a successful transition to independent living.

DATES: Effective Date: This final rule is effective on October 27, 2003.

FOR FURTHER INFORMATION CONTACT: Guy A. Liedke, VA Homeless Providers Grant and Per Diem Program, Mental Health Strategic Health Care Group (116E), Department of Veterans Affairs, 810 Vermont Avenue, NW., Washington, DC 20420; (877) 332-0334. (This is a toll-free number.)

SUPPLEMENTARY INFORMATION: In a document published in the Federal Register on March 19, 2003 at 68 FR 13590, we promulgated an interim final rule that revised the regulations concerning the VA Homeless Providers Grant and Per Diem Program as explained in the SUMMARY portion of this document.

We provided a 60-day comment period that ended May 19, 2003. We did not receive any comments. Based on the rationale set forth in the interim final rule, we are adopting the provisions of the interim final rule as a final rule without any changes, except for the addition of OMB's information collection requirements approval number for the affected sections.

This final rule is issued under authority of 38 U.S.C. 501, 2002, 2011, 2012, 2061, 2064, and 7721 note.

Paperwork Reduction Act

This final rule contains new collections of information under the Paperwork Reduction at §§ 61.11, 61.15, 61.17, 61.20, 61.31, 61.41, 61.51, 61.55 and 61.80. We described the new information collections in the preamble of the interim final rule and provided comment periods on both emergency and non-emergency bases. We did not receive any comments concerning the new information collections. The Office of Management and Budget has assigned control number 2900-0554 to the new information collections. VA may not conduct or sponsor, and a person is not required to respond to, a collection of information unless it displays this currently valid OMB control number.

Executive Order 12866

This document has been reviewed by the Office of Management and Budget under Executive Order 12866.

Regulatory Flexibility Act

The Secretary hereby certifies that the final rule will not have a significant economic impact on a substantial number of small entities as they are defined in the Regulatory Flexibility Act, 5 U.S.C. 601-602. In all likelihood, only similar entities that are small entities will participate in the Homeless Providers Grant and Per Diem Program. Therefore, pursuant to 5 U.S.C. 605(b), this final rule is exempt from the initial and final regulatory flexibility analysis requirement of sections 603 and 604.

Unfunded Mandates

The Unfunded Mandates Reform Act requires, at 2 U.S.C. 1532, that agencies prepare an assessment of anticipated costs and benefits before developing any rule that may result in an expenditure by State, local, or tribal governments, in the aggregate, or by the private sector, of $100 million or more in any given year. This rule would have no such effect on State, local, or tribal governments, or the private sector.

Catalog of Federal Domestic Assistance Program

The Catalog of Federal Domestic Assistance program number is 64.024.

List of Subjects

38 CFR Part 17

Administrative practice and procedure, Alcohol abuse, Alcoholism, Claims, Day care, Dental health, Drug abuse, Foreign relations, Government contracts, Grant programs—health, Grant programs—veterans, Health care, Health facilities, Health professions, Health records, Homeless, Medical and dental schools, Medical devices, Medical research, Mental health programs, Nursing homes, Philippines, Reporting and recordkeeping requirements, Scholarships and fellowships, Travel and transportation expenses, Veterans.

38 CFR Part 61

Administrative practice and procedure, Alcohol abuse, Alcoholism, Day care, Dental health, Drug abuse, Government contracts, Grant programs—health, Grant programs—veterans, Health care, Health facilities, Health professions, Health records, Homeless, Mental health programs, Per-diem program; Reporting and recordkeeping requirements, Travel and transportation expenses, Veterans.

Approved: August 11, 2003.
Anthony J. Principi,
Secretary of Veterans Affairs.

Accordingly, the interim final rule amending 38 CFR parts 17 and 61 that was published in the Federal Register at 68 FR 13590 on March 19, 2003, is adopted as a final rule with the following changes.

PART 61—VA HOMELESS PROVIDERS GRANT AND PER DIEM PROGRAM

1. The authority citation for part 61 continues to read as follows:

Authority: 38 U.S.C. 501, 2002, 2011, 2012, 2061, 2064, 7721 note.

2. In § 61.11, add a parenthetical immediately preceding the authority citation at the end of the section to read as follows:

§ 61.11 Applications for capital grants.

* * * * *

(The Office of Management and Budget has approved the information collection requirements in this section under control number 2900-0554.)

3. In § 61.15, add a parenthetical immediately preceding the authority citation at the end of the section to read as follows:

§ 61.15 Obtaining additional information and awarding capital grants.

* * * * *

(The Office of Management and Budget has approved the information collection requirements in this section under control number 2900-0554.)

4. In § 61.17, add a parenthetical immediately preceding the authority citation at the end of the section to read as follows:

§ 61.17 Site control for capital grants.

* * * * *

(The Office of Management and Budget has approved the information collection requirements in this section under control number 2900-0554.)

5. In § 61.20, add a parenthetical immediately preceding the authority citation at the end of the section to read as follows:

§ 61.20 Life Safety Code capital grants.

* * * * *

(The Office of Management and Budget has approved the information collection requirements in this section under control number 2900-0554.)

6. In § 61.31, add a parenthetical immediately preceding the authority citation at the end of the section to read as follows:

§ 61.31 Application for per diem.

* * * * *

(The Office of Management and Budget has approved the information collection requirements in this section under control number 2900-0554.)

7. In § 61.41, add a parenthetical immediately preceding the authority citation at the end of the section to read as follows:

§ 61.41 Special needs grants application.

* * * * *

(The Office of Management and Budget has approved the information collection requirements in this section under control number 2900-0554.)

8. In § 61.51, add a parenthetical immediately preceding the authority citation at the end of the section to read as follows:

§ 61.51 Applications for technical assistance grants.

* * * * *

(The Office of Management and Budget has approved the information collection requirements in this section under control number 2900-0554.)

9. In § 61.55, add a parenthetical immediately preceding the authority citation at the end of the section to read as follows:

§ 61.55 Technical assistance reports.

* * * * *

(The Office of Management and Budget has approved the information collection requirements in this section under control number 2900-0554.)

10. In § 61.80, add a parenthetical immediately preceding the authority citation at the end of the section to read as follows:

§ 61.80 General operation requirements for supportive housing and service centers.

* * * * *

(The Office of Management and Budget has approved the information collection requirements in this section under control number 2900-0554.)

[FR Doc. 03-24212 Filed 9-25-03; 8:45 am]

BILLING CODE 8320-01-P